DEPARTMENT OF TRANSPORTATION

Maritime Administration

Notice of Funding Opportunity for the Maritime Administration's Port Infrastructure Development Program (PIDP) Under the Consolidated Appropriations Act, 2021

AGENCY: Maritime Administration, DOT.

ACTION: Notice of Funding Opportunity.

SUMMARY: The Consolidated Appropriations Act, 2021 appropriated $230 million for the Port Infrastructure Development Program (PIDP) to make grants to improve facilities within, or outside of and directly related to operations of or an intermodal connection to, coastal seaports, inland river ports, and Great Lakes ports. This notice announces the availability of funding for grants under this program and establishes selection criteria and application requirements. The Act directed that at least $205 million of the appropriated funds shall be for grants to coastal seaports or Great Lakes ports. Additionally, the National Defense Authorization Act for Fiscal Year 2021 directed that not less than $41.4 million shall be for projects at “Small Ports and Terminals” meeting certain requirements described in this NOFO. Funds for the PIDP are to be awarded as discretionary grants on a competitive basis for projects that will improve the safety, efficiency, or reliability of the movement of goods into, out of, around, or within a port. All PIDP grant recipients must meet all applicable Federal requirements, including the Buy American Act. The purpose of this notice is to solicit grant applications for the PIDP.

DATES: Applications must be submitted by 5:00 p.m. E.D.T. on July 30, 2021.

ADDRESSES: Applications must be submitted through Grants.gov.

FOR FURTHER INFORMATION CONTACT: For further information concerning this notice, please contact the PIDP staff via email at PIDPgrants@dot.gov, or call Peter Simons, Supervisory Transportation Specialist, Office of Port Infrastructure Development, at 202-366-8921. A TDD is available for individuals who are deaf or hard of hearing at 202-366-3993. In addition, the Department of Transportation (DOT) may post answers to questions and requests for clarifications as well as information about webinars for further information at www.maritime.dot.gov/PIDPgrants.

SUPPLEMENTARY INFORMATION: Each section of this notice contains information and instructions relevant to the application process for the FY 2021 PIDP discretionary grants, and all applicants should read this notice in its entirety to prepare eligible and competitive applications. Some of the program criteria have been modified since the FY 2020 PIDP.

Table of Contents

A. Program Description

B. Federal Award Information

C. Eligibility Information

D. Application and Submission Information

E. Application Review Information

F. Federal Award Administration Information

G. Federal Awarding Agency Contact(s)

H. Other Information

A. Program Description

1. Overview

The PIDP was established under 46 U.S.C. 50302, which authorizes DOT to establish a port and intermodal improvement program to improve the safety, efficiency, or reliability of the movement of goods through ports and intermodal connections to ports. The Consolidated Appropriations Act, 2021 (Pub. L. 116-260, December 27, 2020) (“FY21 Appropriations Act” or the “Act”) appropriated $230 million to the PIDP to make discretionary grants to improve the safety, efficiency, or reliability of the movement of goods into, out of, around, or within coastal seaports, inland river ports, or Great Lakes ports. To carry out a project under this program, DOT may provide grants for port and intermodal infrastructure-related projects.

Throughout the program, these discretionary grant awards have supported projects that improve facilities within, or outside of and directly related to operations of or an intermodal connection to, coastal seaports, inland river ports, and Great Lakes ports consistent with DOT's strategic infrastructure goal.¹ FY 2021 PIDP grants continue to align with DOT's infrastructure goal by supporting projects that enable safe, efficient, and reliable movement of goods into, out of, around, or within a port. To maximize the value of FY 2021 PIDP funds for all Americans, DOT seeks projects that enable safe, efficient, and reliable movement of goods and support the following program objectives: (1) Supporting economic vitality at the national and regional level; (2) addressing climate change and environmental justice impacts; (3) advancing racial equity and reducing barriers to opportunity; and, (4) leveraging Federal funding to attract non-Federal sources of infrastructure investment.

¹ See U.S. Department of Transportation Strategic Plan for FY 2018-2022 (Feb. 2018) at https://www.transportation.gov/dot-strategic-plan.

Consistent with DOT's R.O.U.T.E.S. initiative, DOT seeks rural projects that address deteriorating conditions and disproportionately high fatality rates on rural transportation infrastructure. DOT will consider how a proposed project will address the challenges faced by rural areas. Please visit https://www.transportation.gov/rural to learn more about DOT's efforts to address disparities in rural infrastructure.

2. Changes From the FY 2020 NOFO

The FY 2021 PIDP notice includes new priorities related to climate change, racial equity, and job creation. These priorities are part of two new program objectives that are incorporated into the FY 2021 PIDP evaluation process: (i) Climate Change and Environmental Justice Impacts and (ii) Racial Equity and Barriers to Opportunity. See Section D of this NOFO for details.

Section D.2.VII of this notice provides additional detail and instructions to applicants related to the statutory determinations that are required prior to award selection.

This notice also includes provisions related to applications for assistance for certain projects at small ports, per 46 U.S.C. 50302(d) as amended by the National Defense Authorization Act for Fiscal Year 2021 (Pub. L. 116-283, January 1, 2021) (“NDAA”). This guidance applies to eligible applicants with eligible projects meeting two conditions: (1) The eligible applicant is a port with average annual tonnage of cargo during the three calendar years immediately preceding the time of application of less than 8,000,000 short tons and (2) the application seeks a certain level of Federal funding (less than or equal to $4.14 million). These projects are referred to in this notice as “small projects at small ports”.

3. Additional Information

Section E of this notice, which outlines FY 2021 PIDP Grant selection criteria, describes the process for selecting projects that further the program's goals. Section F.3 describes progress and performance reporting requirements for selected projects, including the relationship between these reporting requirements and the program's selection criteria.

The PIDP is described in the Federal Assistance Listings (formerly known as the Catalog of Federal Domestic Assistance) under the assistance listing program title “Port Infrastructure Development Program” and assistance listing number 20.823.

B. Federal Award Information

1. Amount Available

DOT intends to award up to $230 million on a competitive basis for projects that improve facilities within, or outside of and directly related to operations of or an intermodal connection to, coastal seaports, inland river ports, and Great Lakes ports. The FY21 Appropriations Act directed that at least $205 million of this amount be reserved for grants to coastal seaports or Great Lakes ports. Additionally, the NDAA directed that not less than $41.4 million shall be for projects meeting certain requirements described in this NOFO for “small projects at small ports”. The FY21 Appropriations Act allows up to two percent ($4.6 million) of the funds appropriated to be available for necessary costs of grant administration. If the Maritime Administration (MARAD) does not receive sufficient qualified applications, it will award less than the amount available.

In addition to the FY 2021 PIDP funds, unobligated prior year PIDP funds may be made available and awarded under this solicitation to eligible projects. DOT presently estimates that approximately $20 million in prior year funds may be awarded under this solicitation. If this solicitation does not result in the award and obligation of all available funds, DOT may publish additional solicitations.

2. Award Size

The minimum PIDP award size is $1 million. Except as limited by the amount of available funding and the statutory restrictions on funding identified in Section B.3, there is no maximum award size.

3. Restrictions on Funding

The FY21 Appropriations Act and NDAA impose several restrictions on awards under this notice:

• Not more than 25 percent of the available funds ($57.5 million) can be used to make grants for projects in any one State.

• At least $205 million is reserved for coastal seaport projects or Great Lakes port projects (as defined in Section C.3.e. below).

• Eighteen percent ($41.4 million) is reserved for small projects at small ports awarded under 46 U.S.C. 50302(d), and no single grant award under 46 U.S.C. 50302(d) may be more than 10 percent ($4.14 million) of this amount. Of this reserved $41.4 million, not more than 10 percent ($4.14 million) may be used to make grants for development phase activities under 46 U.S.C. 50302(d)(3)(A)(ii)(III).

• Not more than 10 percent ($18.4 million) of the funds not reserved for small projects at small ports may be awarded for development phase activities for large projects (as defined in Section C.3.e. below) that do not result in construction.

4. Availability of Funds

To ensure the funds are expended in a timely manner, DOT, to the extent possible, seeks to obligate FY 2021 PIDP funds by September 30, 2024. Obligation occurs when a selected applicant and DOT enter into a written grant agreement after the applicant has satisfied applicable administrative requirements, including transportation planning and environmental review requirements. Unless authorized by DOT in writing after DOT's announcement of FY 2021 PIDP awards, any costs incurred prior to DOT's obligation of funds for a project (“pre-award costs”) are ineligible for reimbursement and are ineligible to count as match for cost share requirements. DOT also seeks to expend funds within five years of obligation. As part of the review and selection process described in Section E.2.b., DOT will consider a project's likelihood to be ready for obligation of funds by September 30, 2024 and liquidation of these obligations within five years of obligation.

5. Previous PIDP Awards

Recipients of prior PIDP grants may apply for funding to support additional phases of a project previously awarded funds in the PIDP program. However, to be competitive, the applicant should demonstrate the extent to which the previously funded project phase has met estimated project schedules and budget, as well as the ability to realize the benefits expected for the project. A previous PIDP award, or application, does not affect competitiveness under the FY 2021 PIDP competition.

C. Eligibility Information

To be selected for a FY 2021 PIDP discretionary grant, an applicant must be an eligible applicant and the project must be an eligible project.

1. Eligible Applicants

An eligible applicant for a FY 2021 PIDP discretionary grant is a port authority, a commission or its subdivision or agent under existing authority, a State or political subdivision of a State or local government, a Tribal government, a public agency or publicly chartered authority established by one or more States, a special purpose district with a transportation function, a multistate or multijurisdictional group of entities, or a lead entity described above jointly with a private entity or group of private entities (including the owners or operators of a facility, or collection of facilities, at a port).

If submitting a joint application, applicants should identify a lead applicant as the primary point of contact and also identify the primary recipient of the award. The applicant that will be responsible for financial administration of the project must be an eligible applicant. Joint applications should include a description of the roles and responsibilities of each applicant.

Applicants must demonstrate that they have the authority to carry out the project and are encouraged to submit an assertion with citation of authority with their application. See Section D.2.VII. for more information.

2. Cost Sharing or Matching

This section of the notice describes cost share requirements for an FY 2021 PIDP Grant award.

Per the FY21 Appropriations Act, the Federal share of the costs for which an expenditure is made under a PIDP grant may not exceed 80 percent; however, the Secretary may increase the Federal share of costs above 80 percent for: (1) Large project grant awards less than $10 million; or, (2) grants awarded to small projects at small ports under 46 U.S.C. 50302(d).

Non-Federal sources include State funds originating from programs funded by State revenue, local funds originating from State or local revenue funded programs, or private funds. The application should demonstrate, such as through a commitment letter or other documentation, the sources of the non-Federal funds. Unless otherwise authorized by statute, State or local cost-share may not be counted as the non-Federal share for both the FY 2021 PIDP Grant award and another Federal grant program.

DOT will not consider previously incurred costs or previously expended or encumbered funds towards the matching requirement for any project, except for awards made under 46 U.S.C. 50302(d) (small projects at small ports). For awards made under 46 U.S.C. 50302(d), DOT may consider certain eligible pre-construction costs towards the matching requirement if incurred after the date of application submittal but before award announcement and if the costs are clearly indicated in the budget included in the application and comply with all applicable Federal requirements. Matching funds are subject to the same Federal requirements described in Section F.2. as awarded funds.

For the purpose of eligibility, the proceeds of Federal assistance under chapter 6 of Title 23, United States Code or sections 501 through 504 of the Railroad and Revitalization and Regulatory Reform Act of 1976 (Pub. L. 94-210), as amended, shall be considered to be part of the non-Federal share of project costs if the loan is repayable from non-Federal funds, unless otherwise requested by the project sponsor.

In addition to these cost share requirements, cost share will be evaluated according to the “Leverage of Federal Funding” criterion described in Section E. Preference will be given to those projects that require a lower percentage Federal share of costs. See Section E.1.a. for information on how DOT will evaluate leverage. That section explains that DOT seeks applications for projects that maximize the non-Federal share. See Section D.2.III. for information about documenting cost sharing in the application.

For each project that receives a PIDP grant award, the terms of the award will require the recipient to complete the project using at least the level of non-Federal funding that was specified in the application. If the actual costs of the project are greater than the costs estimated in the application, the recipient will be responsible for increasing the non-Federal contribution. If the actual costs of the project are less than the costs estimated in the application, DOT will generally reduce the Federal contribution.

3. Other

a. Eligible Projects

Eligible projects for FY 2021 PIDP grants shall be located either within the boundary of a port, or outside the boundary of a port and directly related to port operations or to an intermodal connection to a port. Eligible projects are limited to:

(1) Port gate improvements;

(2) road improvements both within and connecting to the port;

(3) rail improvements both within and connecting to the port;

(4) berth improvements (including docks, wharves, piers, and dredging incidental to the improvement project);

(5) fixed landside improvements in support of cargo operations (such as silos, elevators, conveyors, container terminals, Ro/Ro structures including parking garages necessary for intermodal freight transfer, warehouses including refrigerated facilities, lay-down areas, transit sheds, and other such facilities);

(6) utilities necessary for safe operations (including lighting, stormwater, and other such improvements that are incidental to a larger infrastructure project); or

(7) a combination of activities described above.

Projects addressing environmental mitigation measures, freight intelligent transportation systems, and digital infrastructure systems are eligible if those components support one of the eligible project types listed above. This program will not fund construction, reconstruction, reconditioning, or purchase of a vessel, nor any project within a small shipyard (as defined in 46 U.S.C. 54101). Mobile equipment, such as mobile harbor cranes or vehicles and similar equipment whose utility depends, in part, on their ability to be routinely relocated from one location to another, is not eligible for funding.

Development phase activities (including planning, feasibility analysis, revenue forecasting, environmental review, permitting, and preliminary engineering and design work) that support these capital projects are also eligible. However, DOT will prioritize funding for projects that propose to move into the construction phase within the grant's performance period. Accordingly, applications for only development phase activities will be less competitive than capital grants.

Improvements to Federally owned facilities are ineligible under the FY 2021 PIDP.

Refer to Section D.5, Funding Restrictions, for more information when determining eligibility.

b. Determinations

DOT must make the following determinations under 46 U.S.C. 50302(c)(6)(A) before selecting a project for award. Evidence that a project meets these determinations should be clearly indicated in the Project Narrative as outlined in Section D.2.VII.

(1) The project improves the safety, efficiency, or reliability of the movement of goods through a port or intermodal connection to the port. Refer to Section D.2.VII. for what to include in the application, and to Section E.1.a. for how DOT will make this determination.

(2) The project is cost effective. DOT will determine a project is cost effective if it estimates that the project's benefit-cost ratio is equal to or greater than one. Refer to Section D.2.VII. for what to include in the application and to Section E.1.a. for how DOT will make this determination. This requirement does not apply to awards for small projects at small ports (i.e., awards made under 46 U.S.C. 50302(d)).

(3) The eligible applicant has the authority to carry out the project. Refer to Section D.2.VII. for what to include in the application, and to Section E.2.b. for how DOT will make this determination.

(4) The eligible applicant has sufficient funding available to meet the matching requirements. DOT's determination of sufficient and available non-Federal matching funds will be based on the information provided in the project's Grant Funds, Sources, and Uses of Project Funds section of the application (see Section D.2.III). Refer to Section D.2.VII. for what to include in the application, and to Section E.2.b. for how DOT will make this determination.

(5) The project will be completed without unreasonable delay. The application must demonstrate that the project will meet the timeline outlined in Section B.4. This eligibility requirement is separate from the Project Readiness Selection Criteria described in Section E.1.b. Refer to Section D.2.VII. for what to include in the application, and to Section E.2.b. for how DOT will make this determination.

(6) The project cannot be easily and efficiently completed without Federal funding or financial assistance available to the project sponsor. DOT's determination will be based on the impacts to the project if Federal funding or financial assistance is unavailable for the project. Refer to Section D.2.VII. for what to include in the application, and to Section E.2.b. for how DOT will make this determination.

c. Project Components

An application may describe a project that contains more than one component and may describe components that may be carried out by parties other than the applicant. DOT may award funds for a component, instead of the larger project, if that component (1) independently meets minimum award amounts described in Section B and all eligibility requirements described in Section C; (2) independently aligns well with the merit criteria specified in Section E; and (3) meets National Environmental Policy Act (NEPA) requirements with respect to independent utility. Independent utility means that the component will represent a transportation improvement that is usable, even if no other improvement is made in the area, and will be ready for intended use upon completion of that component's construction. All project components that are presented together in a single application must demonstrate a relationship or connection among them.

Applicants should be aware that, depending upon the relationship between project components and applicable Federal law, Federal funding of some project components may make other project components that have not received Federal funding subject to Federal requirements as described in Section F.2.

DOT strongly encourages applicants to identify in their applications the project components that have independent utility and separately detail costs and requested PIDP funding for those components. If the application identifies one or more independent project components, the application should clearly identify how each independent component addresses the selection criteria and produces benefits on its own, in addition to describing how the full proposal of which the independent component is a part addresses the criteria described in Section E.

d. Application Limit

Each lead applicant may submit no more than one application.

e. Definitions

Coastal seaport: A port on navigable waters of the United States or territories that are subject to the U.S. Army Corps of Engineers regulatory jurisdiction for oceanic and coastal waters under 33 CFR 329.12 or that is otherwise capable of receiving oceangoing vessels with a draft of at least 20 feet (other than a Great Lakes port).

Development phase activities: Planning, feasibility analysis, revenue forecasting, environmental review, permitting, and preliminary engineering and design work.

Great Lakes port: A port on the Great Lakes and their connecting and tributary waters as defined under 33 CFR 83.03(o).

Large projects: A project at a port other than a small port, regardless of the amount of PIDP funding sought in the application; or, a project at a small port for which the amount of PIDP funding sought in the application is greater than $4.14 million.

Rural area: An area located outside a 2010 Census-designated urbanized area.

Small port: A coastal seaport, Great Lakes, or inland river port to and from which the average annual tonnage of cargo for the immediately preceding 3 calendar years from the time an application is submitted is less than 8,000,000 short tons, as determined using U.S. Army Corps of Engineers data or data provided by an independent audit the findings of which are acceptable to the Secretary.

Small project at a small port: A project at a small port seeking less than or equal to $4.14 million in funding under 46 U.S.C. 50302(d).

D. Application and Submission Information

1. Address To Request Application Package

Applications must be submitted to Grants.gov. Instructions for submitting applications can be found at https://www.maritime.dot.gov/office-port-infrastructure-development/port-and-terminal-infrastructure-development/how-apply-port along with specific instructions for the forms and attachments required for submission.

2. Content and Form of Application Submission

The application must include the Standard Form 424 (Application for Federal Assistance) and the Project Narrative. More detailed information about the Project Narrative follows. Applicants are encouraged to also complete the SF-424C (Budget Information—Construction Programs) and attach to their application the FY 2021 PIDP Project Information form. These forms may be found on grants.gov and are also available at www.maritime.dot.gov/PIDPgrants.

DOT recommends that the Project Narrative be prepared with standard formatting preferences (a single-spaced document, using a standard 12-point font such as Times New Roman, with 1-inch margins, and the narrative text in one column only). The Project Narrative may not exceed 30 pages in length, excluding cover pages and table of contents. The only substantive portions that may exceed the 30-page limit are documents supporting assertions or conclusions made in the 30-page Project Narrative and documentation related to the required determinations. Except for the benefit cost analysis, DOT does not consider supporting documentation or websites an essential part of the application. Supporting documentation should be dated, and DOT recommends using appropriately descriptive files names (e.g., “Project Narrative,” “Maps,” “Memoranda of Understanding and Letters of Support”) for all attachments. If supporting documents are submitted, applicants should clearly identify within the Project Narrative the relevant portion of the Project Narrative that each supporting document supports.

DOT recommends that the Project Narrative follow the basic outline below to address the program requirements and assist evaluators in locating relevant information.

I. Project Description | See D.2.I.
II. Project Location | See D.2.II.
III. Grant Funds, Sources, and Uses of Project Funds | See D.2.III.
IV. Merit Criteria | See D.2.IV.
A. Achieving Safety, Efficiency, or Reliability Improvements
B. Supporting Economic Vitality at the National and Regional Level
C. Addressing Climate Change and Environmental Justice Impacts
D. Advancing Racial Equity and Reducing Barriers to Opportunity
E. Leveraging Federal Funding To Attract Non-Federal Sources of Infrastructure Investment
V. Project Readiness | See D.2.V.
A. Technical Capacity
B. Environmental Approvals
C. Risk Mitigation
VI. Domestic Preference | See D.2.VI.
VII. Determinations | See D.2.VII.

The Project Narrative should include the information necessary for DOT to determine that the project satisfies project requirements described in Sections B and C and to assess the criteria specified in Section E.1. In addition to a detailed statement of work, detailed project schedule, and detailed project budget, the Project Narrative should include a table of contents, maps and graphics, as appropriate, to make the information easier to review. To the extent practicable, applicants should provide supporting data and documentation in a form that is directly verifiable by DOT. DOT may ask any applicant to supplement data in its application, but expects applications to be complete upon submission. DOT may seek clarifying or additional information from applicants according to circumstances described in Section E.2. DOT recommends applications include the following content:

I. Project Description

The first section of the application should provide a concise description of the project, the challenges that it is intended to address, and how it will address those challenges. The project description should provide both a high-level overview of the overall project and a clear itemization of its major components. This section may discuss the project's history, including a description of any previously completed components. The applicant may use this section to place the project into a broader context of other transportation infrastructure investments being pursued by the project sponsor. This section should focus on eligibility and technical aspects of the project, but should not directly address the selection criteria described in paragraph IV., below.

II. Project Location

This section of the application should describe the project location, including a detailed geographical description of the proposed project, a map of the project's location and connections to existing transportation infrastructure, and geospatial data describing the project location. This section should also clearly identify whether the project is:

(a) Located in a rural area (as defined in Section C.3.e);

(b) a Great Lakes port project (as defined in Section C.3.e);

(c) a Coastal seaport project (as defined in Section C.3.e);

(d) a small project at a small port (as defined in Section C.3.e) seeking funding under 46 U.S.C. 50302(d); and

(e) located in a Federally designated community development zone such as a qualified Opportunity Zone,² Empowerment Zone,³ Promise Zone,⁴ or Choice Neighborhood.⁵

² See https://opportunityzones.hud.gov/.

³ See https://www.hud.gov/hudprograms/empowerment_zones.

⁴ See https://www.hud.gov/program_offices/field_policy_mgt/fieldpolicymgtpz.

⁵ See https://www.hud.gov/program_offices/public_indian_housing/programs/ph/cn.

III. Grant Funds, Sources, and Uses of Project Funds

This section of the application should describe the FY 2021 PIDP project's budget (i.e., the project scope that includes PIDP funding) and leverage of non-Federal funds. Except for a project seeking funding under 46 U.S.C. 50302(d), the budget should not include any previously incurred expenses. At a minimum, this section should include:

(a) PIDP project costs; ⁶

⁶ For a project seeking funding under 46 U.S.C. 50302(d), the project costs may include eligible costs incurred by the applicant between the date of application submittal and the date of award announcement as long as these costs comply with the PIDP administrative and national policy requirements described in Section F.2 and are for pre-construction activities. Costs incurred prior to the execution of a grant agreement will not be reimbursed or used to satisfy cost share requirements unless authorized in writing by DOT. See Section F.1.

(b) For all funds to be used for eligible project costs, the source and amount of those funds;

(c) Documentation of funding commitments for non-Federal funds to be used for eligible project costs (documentation may be referenced and submitted as an appendix);

(d) For Federal funds to be used for eligible project costs, the amount, nature, and source of any required non-Federal match for those funds. Applicants should also refer to the Leverage of Federal Funding merit criterion in Section E.1.a.v.;

(e) A budget showing how each source of funds will be spent. The budget should show how each funding source will share in each major construction activity, and present that data in dollars and percentages. Funding sources should be grouped into three categories: Non-Federal; PIDP; and other Federal. If the project contains individual components, the budget should separate the costs of each project component. If the project will be completed in phases, the budget should separate the costs of each phase. The budget detail should sufficiently demonstrate that the project satisfies the statutory cost-sharing requirements described in Section C.2.

In addition to the information enumerated above, this section should provide complete information on how all project funds may be used. For example, if a particular source of funds is available only after a condition is satisfied, the application should identify that condition and describe the applicant's control over whether it is satisfied. Similarly, if a particular source of funds is available for expenditure only during a fixed time period, the application should describe that restriction. Complete information about project funds will ensure that DOT's expectations for award execution align with any funding restrictions unrelated to DOT, even if an award differs from the applicant's request. If a funding source is uncertain, the applicant should state that it is uncertain and describe the source of the uncertainty. Failure to document funding sources, as described in paragraph (c) above or failure to address uncertainty may prevent DOT from making the determination at Section C.3.b.4 necessary to select the project for an award.

IV. Merit Criteria

This section should be structured to clearly address each of the following merit criteria in accordance with the Application Review guidance in Section E.

A. Effect on the Movement of Goods

The application should contain information to assess the project's impact on safety, efficiency, or reliability of the movement of goods through a port or intermodal connection to a port. The application may, as part of this discussion, identify features the applicant will incorporate into the project and highlight specific benefits of the project (such as indicators of improved efficiency and reliability like reduced vessel and truck turn times; enhancements to or increases in system capacity; improved connectivity; decreases in the number, rate, and consequences of transportation-related accidents, serious injuries, and fatalities).

For applications seeking funding for a small project at a small port, the narrative should also contain information that addresses the degree to which the project would promote the enhancement and efficiencies of the port.

B. Supporting Economic Vitality at the National and Regional Level

1. Large Projects. For large projects (as defined in Section C.3.e.) this criterion will measure the quantified benefits against the costs of the project. Among otherwise comparable applications, DOT will prioritize projects that maximize net benefits.

a. This portion of the application should describe the anticipated benefits of the project. The applicant should summarize the conclusions of the benefit-cost analysis, including estimates of the project's benefit-cost ratio and net benefits. The applicant should also describe economic impacts and other data-supported benefits that are not included in the benefit-cost analysis, such as how the project creates good-paying jobs with the choice to join a union and how the project supports American industry.

b. This paragraph describes the recommended approach for the completion and submission of a benefit-cost analysis (BCA) as an appendix to the Project Narrative. The BCA itself should be provided as an appendix to the Project Narrative, but the results of the analysis should also be summarized in the Project Narrative directly.

The appendix should provide present value estimates of a project's benefits and costs relative to a no-build baseline. To calculate present values, applicants should apply a real discount rate (i.e., the discount rate net of the inflation rate) of 7 percent per year to the project's streams of benefits and costs. The purpose of the BCA is to enable DOT to evaluate the project's cost-effectiveness by estimating a benefit-cost ratio and calculating the magnitude of net benefits for the project. The primary economic benefits from projects eligible for PIDP grants are likely to relate to the value of travel time savings, vehicle and port operating cost savings, and safety considerations for both existing users of the improved facility and new users who may be attracted to it because of the project. Savings in infrastructure maintenance costs may also be quantified. Applicants may describe other categories of benefits in the BCA that are more difficult to quantify and value in economic terms, such as improving the reliability of travel times, while also providing numerical estimates of the magnitude and timing of each of these additional impacts wherever possible. Any benefits claimed for the project, both quantified and unquantified, should be clearly tied to the expected outcomes of the project.

The BCA should include the full costs of developing, constructing, operating, and maintaining the proposed project, as well as the expected timing or schedule for costs in each of these categories. The BCA may also consider the present discounted value of any remaining service life of the asset at the end of the analysis period. The costs and benefits that are compared in the BCA should also cover the same project scope, including the costs of other related projects on which the benefits of the PIDP project depend.

The BCA should carefully document the assumptions and methodology used to produce the analysis, including a description of the baseline, the sources of data used to project the outcomes of the project, and the values of key input parameters. Applicants should provide all relevant files used for their BCA, including any spreadsheet files (in their original format such as Excel) and technical memos describing the analysis (whether created in-house or by a contractor). The spreadsheets and technical memos should present the calculations in sufficient detail and transparency to allow the analysis to be reproduced by DOT evaluators.

Detailed guidance for estimating some types of quantitative benefits and costs, together with recommended economic values for converting them to dollar terms and discounting to their present values, are available in DOT's guidance for conducting BCAs for projects seeking funding under the PIDP. A link to DOT's guidance is available on the PIDP website: www.maritime.dot.gov/PIDPgrants.

c. Applicants should also describe economic impacts and other data-supported benefits that are not included in the benefit-cost analysis, such as how the project creates good-paying jobs that provide the chance to join a union, how the project will support American industry, and how the project will benefit the local and regional economy such as through the use of project labor agreements, local hiring preferences, and project-related initiatives that address disparities in economic opportunities.

2. Small Projects at Small Ports. For small projects at small ports (as defined in Section C.3.e.), this criterion will assess the project's impact on the economic advantage and contribution to freight transportation at the port. The criterion will also consider the competitive disadvantage of the port. Small projects at small ports are not required to submit a benefit-cost analysis.

a. Information related to a project's impact on economic advantage should include improvements the project will generate as reflected in commitments or other documentation. It could also include analysis and documentation related to how the project will enhance traditional elements of economic advantage such as capitalizing on or creating economies of scale, overcoming barriers to entry, or creating more efficient access for labor, resources, and customers. The narrative's discussion of the project's contribution to freight transportation should address how the project will improve the physical process of transporting commodities, merchandise, goods, cargo, and related externalities. Information that helps reviewers understand how the project will benefit both direct stakeholders (such as shippers, carriers, or consignees) and other members of society who may not benefit directly from cargo movements (such as by reducing some of the negative impacts of freight transportation such as air, noise, and water pollution, vegetation and wildlife destruction, etc.) should also be included. The consideration of sustainable development strategies in project development and execution should also be addressed, if applicable.

b. Applicants should also include information that will help reviewers understand the competitive disadvantage of the port and, as appropriate, how the project will improve the port's competitive position. For example, the application could provide information on elements of competitive disadvantage (such as technology limitations or a port's geography) and explain how PIDP funding will help reduce or ameliorate those elements (such as by correcting the element resulting in the competitive disadvantage). The application could also identify how a PIDP-funded project's values-based approach (such as an emphasis on respect for people and the environment or commitment to individual economic opportunities) will address the competitive disadvantage of the port. Applicants should include data and/or well-reasoned analyses when providing inputs on the economic vitality of the proposed project. Economic vitality supports the development of transportation systems that stimulate, support, and enhance the movement of goods to ensure a prosperous economy. When preparing the Project Narrative, applicants should consider that the concept of economic vitality includes recognizing a full range of multimodal and intermodal freight needs, public-private partnerships, sustainability, and institutional linkages within the community.

c. The applicant should also describe economic impacts and other data-supported benefits, such as how the project creates good-paying jobs that provide the chance to join a union, how the project will support American industry, and how the project will benefit the local and regional economy such as through the use of project labor agreements, local hiring preferences, and project-related initiatives that address disparities in economic opportunities.

C. Addressing Climate Change and Environmental Justice Impacts

This section of the application should demonstrate whether the project has incorporated climate change and environmental justice in terms of planning and policy and/or design components. To address the planning and policies element of this criterion, the application should describe what specific climate change or environmental justice activities have been completed for the project. The application should indicate whether a project is incorporated in a climate action plan, whether an equitable development plan has been prepared, and whether tools such as EPA's EJSCREEN have been applied in project planning.⁷ To address the design component element of this criterion, the application should describe specific and direct ways that the project will mitigate or reduce climate change impacts. This may include a description of how the project encourages modal shift, results in changes in asset utilization to reduce congestion, or incorporates multimodal infrastructure to reduce climate impacts. This section may also describe ways that the project reduces emissions or uses technology to increase energy efficiency, incorporates resiliency measures for disaster preparedness and mitigation, or recycles and enhances existing idle or dilapidated infrastructure. See Section E.1.a.iii. for additional information related to evaluation of this criterion.

⁷ The EJSCREEN tool can be found on the EPA site: https://ejscreen.epa.gov/mapper/.

D. Advancing Racial Equity and Reducing Barriers to Opportunity

This section of the application should include sufficient information to evaluate how the applicant and the project will advance the Racial Equity and Barriers to Opportunity program objective. The applicant should indicate which (if any) planning and policies related to racial equity and barriers to opportunity they are implementing or have implemented along with the specific project investment details necessary for DOT to evaluate if the investments are being made to either proactively advance racial equity and reduce barriers to opportunity or redress prior inequities and barriers to opportunity. All project investment costs for the project that are related to advancing racial equity and reducing barriers to opportunity should be summarized here, even if those project costs are ineligible for the PIDP grant. Any policies, plans, and outreach documentation related to advancing racial equity or reducing barriers to opportunity should be provided as an appendix to the Project Narrative. See Section E.1.a.iv. for additional information.

E. Leveraging Federal Funding To Attract Non-Federal Sources of Infrastructure Investment

While the Leveraging Criterion will be assessed according to the methodology described in Section E.1.a.v., this section of the application may be used to include additional information that may strengthen DOT's understanding of the project sponsor's effort to improve non-Federal leverage.

V. Project Readiness

During application evaluation, DOT will consider project readiness to assess the likelihood of a successful project. In that analysis, DOT will evaluate two categories of project readiness: Technical Capacity and Environmental Risk. Technical Capacity will assess the applicant's experience working with Federal agencies, previous experience with PIDP, BUILD, or INFRA awards, and the technical experience and resources dedicated to the project. This section of the narrative should include information on the project schedule and a discussion of project risk. Risks do not disqualify projects from award, but competitive applications clearly and directly describe achievable risk mitigation strategies. A project with mitigated risks or with a risk mitigation plan is more competitive than a comparable project with unaddressed risks. Environmental Risk analyzes the project's environmental approvals and likelihood of the necessary approvals affecting project obligation. To minimize redundant information in the application, DOT encourages applicants to cross-reference from this section of their application to relevant substantive information in other sections of the application.

(a) Technical Capacity

The applicant should provide information demonstrating technical capacity to implement the project based on experience and understanding of Federal requirements. This section may include a description of the applicant's history of delivering similar projects or experience completing a Federally supported project. The application should also demonstrate a project's feasibility or constructability and schedule, and how the project (such as design and construction) will comply with applicable Federal requirements.

The applicant should also indicate whether the project is part of an ongoing planning effort, such as at the local, regional, or state level. Information on whether the project is included in a local or state freight plan, part of a facility or organization strategic plan, or included in other planning efforts should be included. Applicants should provide links or other documentation supporting the project's inclusion in these planning efforts.

(1) Project Schedule. The applicant should include a detailed project schedule that identifies all major project milestones. Examples of such milestones include State and local planning approvals; start and completion of NEPA, and other Federal environmental reviews and approvals including permitting; design completion; right of way acquisition; approval of plans, specifications, and estimates; procurement; State and local approvals; project partnership and implementation agreements, including agreements with non-governmental entities involved in or impacted by the project; and construction. The project schedule should be sufficiently detailed to demonstrate that the project can begin construction quickly upon obligation of PIDP funds, and that the grant funds will be spent expeditiously once construction starts.

(2) Assessment of Project Readiness Risks and Mitigation Strategies. The applicant should identify project risks, such as approval or permit delays, procurement delays, technical challenges in design or construction, environmental uncertainties, increases in real estate acquisition costs, or lack of legislative approval, that affect the likelihood of successful project start and completion. The applicant should assess the greatest risks to the project and include a discussion that identifies how the project parties will mitigate those risks.

(b) Environmental Risk

(1) Information about the NEPA status of the project. The applicant should indicate the anticipated NEPA level of review for the project and describe any environmental analysis in progress or completed. This includes Categorical Exclusion, Environmental Assessment/Finding of No Significant Impact, or Environmental Impact Statement/Record of Decision. The applicant should review Maritime Administration Manual of Orders MAO 600-1 prior to submission. The application should detail the type of NEPA review underway, where the project is in the process, and indicate the anticipated date of completion of all milestones and of the final NEPA determination. If the last agency action with respect to NEPA documents occurred more than three years before the application date, the applicant should describe why the project has been delayed and include a proposed approach for verifying and, if necessary, updating this material in accordance with applicable NEPA requirements. If applicable, applicants should include a description of discussions with the appropriate Maritime Administration NEPA Coordinator in the Maritime Administration Office of Environment regarding the project's compliance with NEPA and other applicable Federal environmental reviews and approvals.

(2) Environmental Permits and Reviews. The application should demonstrate receipt (or reasonably anticipated receipt) of all environmental permits and approvals necessary, including Section 106 of the National Historical Preservation Act, 54 U.S.C. 306108, and Section 7 of the Endangered Species Act, 16 U.S.C. 1531, for the project to proceed to construction on the timeline specified in the project schedule and necessary to meet the statutory obligation deadline, including satisfaction of all Federal, State, and local requirements and completion of the NEPA process.

(3) State and Local Approvals. The applicant should demonstrate receipt of State and local approvals on which the project depends, such as State and local environmental permitting and planning. Additional support from relevant State and local officials is not required; however, an applicant should demonstrate that the project has broad public support.

(4) Information on environmental reviews, approvals, and permits by other agencies. An application should indicate whether the proposed project requires reviews or approval actions by other agencies,⁸ indicate the status of such actions, and provide detailed information about the status of those reviews or approvals and should demonstrate compliance with any other applicable Federal, State, or local requirements, and when such approvals are expected. Applicants should provide a website link or other reference to copies of any reviews, approvals, and permits prepared.

⁸ Projects that may impact protected resources such as wetlands, species habitat, or cultural or historic resources require review and approval by Federal and State agencies with jurisdiction over those resources.

(5) A description of whether the project is dependent on, or affected by, U.S. Army Corps of Engineers investment and the U.S. Army Corps of Engineers planned activities as it relates to the project.

(6) Environmental studies or other documents, preferably through a website link, that describe in detail known project impacts, and possible mitigation for those impacts. This could include State NEPA analysis information as applicable.

VI. Domestic Preference

This section should include a description of whether materials and manufactured products to be used in the project are mined, produced, or manufactured domestically. The Department expects all PIDP applicants to comply with that requirement without needing a waiver. However, this section should also include an assessment of what, if any, materials or manufactured products would require an exception or waiver of the Buy American provisions described in Section F.2 of this notice and the applicant's current efforts and planned future efforts to maximize domestic content. The content of this section of the application is particularly important for projects that propose the acquisition of heavy equipment, construction components, or bollard and fendering systems, which are often available from foreign manufacturers. As described in Section E.1.c, failure to address Buy American compliance can affect whether an application is considered competitive for award and may prevent an award.

VII. Determinations

To select a project for award, the Department must determine that the project—as a whole, as well as each independent component of the project—satisfies several statutory requirements enumerated in 46 U.S.C. 50302(c)(6)(A) and restated in the table below. The application must include sufficient information for the Department to make these determinations for both the project as a whole and for each independent component of the project. Applicants should use this section of the application to summarize how their project and, if present, each independent project component, meets each of the following requirements. Applicants are not required to reproduce the table below in their application, but following this format will help evaluators identify the relevant information that supports each project determination. Supporting information provided in appendices may be referenced.

Project determination | Guidance
1. The project improves the safety, efficiency, or reliability of the movement of goods through a port or intermodal connection to the port | Please summarize how the project will improve the safety, efficiency, or reliability of the movement of goods through a port or intermodal connection to a port.
| Detail specific elements of the project and their forecasted impact on port performance indicators (such as improvements in vessel dwell times, truck turn times, capacity, throughput, accident reductions, etc.)
| If the project has multiple independent components, please provide sufficient information to describe the impact of each component on the overall project.
2. The project is cost effective | Highlight the results of the benefit cost analysis, as well as the analyses of independent project components, if applicable.
| The Department will base its determination on the ratio of project benefits to project costs as assessed according to the Economic Vitality criterion.
| Note: This determination is not applicable to small projects at small ports.
3. The eligible applicant has the authority to carry out the project | Please provide citations of authority or other supporting documentation necessary to establish an applicant's authority to carry out the project. The citations should be of sufficient detail to demonstrate that the applicant is an eligible applicant and to show how the applicant is related to the work on the property where the grant funds will be spent.
| Examples of information that could assist with making this determination include: The citation of specific sections or chapters of state or local statutory language that demonstrate relevant authority; the inclusion of a narrative outlining the authority of the eligible entity applying for grant funding; or, a description of the relationship between the applicant and the owner of the property that links the project to the authority to carry out the project.
4. The eligible applicant has sufficient funding available to meet the matching requirements | Please indicate funding source(s) and amounts that will account for all project costs, broken down by independent project component, if applicable. Demonstrate that the funding is stable, dependable, and dedicated to this specific project by referencing a letter of commitment, a local government resolution, memorandum of understanding, or similar documentation. The Department will base its determination on an assessment of this information by PIDP program evaluators.
5. The project will be completed without unreasonable delay | Please provide expected obligation date ⁹ and construction start date, referencing project budget and schedule as needed. If the project has multiple independent components, or will be obligated and constructed in multiple phases, please provide sufficient information to show that each component meets this requirement.
| DOT will base its determination on the project risk rating assessed as part of the evaluation of the Project Readiness criterion.
6. The project cannot be easily and efficiently completed without Federal funding or financial assistance available to the project sponsor | Describe the potential negative impacts on the proposed project if the PIDP grant (or other Federal funding) is not awarded. In the narrative, address the following:
| 1. How would the project scope be affected if PIDP (or other Federal) funds were not received?
| 2. How would the project schedule be affected if PIDP (or other Federal) funds were not received?
| 3. How would the project cost be affected if PIDP (or other Federal) funds were not received?
| If there are no negative impacts to the project scope, schedule, or budget if PIDP funds are not received, state that explicitly. Impacts to a portfolio of projects will not satisfy this requirement; please describe only project-specific impacts. Re-stating the project's importance for national or regional economy, mobility, or safety will not satisfy this requirement. The Department will base its determination on an assessment of this information by PIDP program evaluators.

3. Unique Entity Identifier and System for Award Management (SAM).

⁹ Obligation occurs when a selected applicant enters a written, project-specific agreement with the Department and is generally after the applicant has satisfied applicable administrative requirements, including transportation planning and environmental review requirements.

Each applicant must: (1) Be registered in SAM before submitting its application; (2) provide a valid unique entity identifier in its application; and (3) continue to maintain an active SAM registration with current information at all times during which it has an active Federal award or an application or plan under consideration by a Federal awarding agency. DOT may not make an FY 2021 PIDP Grant award to an applicant until the applicant has complied with all applicable unique entity identifier and SAM requirements and, if an applicant has not fully complied with the requirements by the time DOT is ready to make a PIDP grant award, DOT may determine that the applicant is not qualified to receive a PIDP grant award and use that determination as a basis for making a PIDP grant award to another applicant.

4. Submission Dates and Times

Applications must be submitted to Grants.gov. Instructions for submitting applications can be found at www.maritime.dot.gov/PIDPgrants along with specific instructions for the forms and attachments required for submissions.

Applications must be submitted by 5:00 p.m. E.D.T. on July 30, 2021. The funding opportunity on Grants.gov will open by March 29, 2021. Please note that the Grants.gov registration process usually takes 2-4 weeks to complete and that DOT will not consider late applications that are the result of a failure to register or comply with Grants.gov applicant requirements in a timely manner.

5. Funding Restrictions

Grants under the FY 2021 PIDP may not be used to fund construction, reconstruction, reconditioning, or purchase of a vessel that is eligible for assistance under 46 U.S.C. chapter 537, nor any project within a small shipyard (as defined in 46 U.S.C. 54101).

Funds granted to small projects at small ports under 46 U.S.C. 50302(d) may not be used for: Any single grant award more than $4.14 million; or, activities, including channel improvements or harbor deepening, that are part of a Federal channel, authorized, as of the date of the application for assistance, to be carried out by the U. S. Army Corps of Engineers.

Improvements to Federally owned facilities are ineligible under the FY 2021 PIDP.

Mobile equipment, such as mobile harbor cranes or vehicles and similar equipment whose utility depends, in part, on an ability to be routinely relocated from one location to another, is not eligible for funding.

DOT will not consider previously incurred costs or previously expended or encumbered funds towards the matching requirement for any project, except for certain costs related to a small project at a small port (e.g., grants under 46 U.S.C. 50302(d)). Unless authorized in writing by DOT, an expense incurred before a grant agreement is executed will not be reimbursed or count towards cost share requirements.

Federal award recipients and subrecipients are prohibited from obligating or expending grant funds to procure or obtain, extend or renew a contract to procure or obtain, or enter into a contract (or extend or renew a contract) to procure or obtain equipment, services, or systems that use covered telecommunications equipment or services as a substantial or essential component of any system, or as critical technology as part of any system. See Section 889 of Public Law 115-232 (National Defense Authorization Act, 2019) and 2 CFR 200.216 & 200.471.

6. Other Submission Requirements

a. Submission Location

Applications must be submitted to Grants.gov. To submit an application through Grants.gov, applicants must:

(1) Obtain a Data Universal Numbering System (DUNS) number;

(2) Register with the System for Award Management (SAM) at www.SAM.gov;

(3) Create a Grants.gov username and password; and

(4) Complete Authorized Organization Representative (AOR) registration in Grants.gov. The E-Business Point of Contact (POC) at the applicant's organization must respond to the registration email from Grants.gov and login at Grants.gov to authorize the applicant as the AOR. Please note that there can be more than one AOR for an organization.

Please note that the Grants.gov registration process usually takes 2-4 weeks to complete and that DOT will not consider late applications that are the result of a failure to register or comply with Grants.gov applicant requirements in a timely manner. For information and instruction on each of these processes, please see instructions at https://www.grants.gov/applicants/applicant-faqs.html.

If applicants experience difficulties at any point during the registration or application process, please call the Grants.gov Customer Service Support Hotline at 1(800) 518-4726, Monday-Friday from 7:00 a.m. to 9:00 p.m. ET.

b. Consideration of Applications

Only applicants who comply with all submission deadlines described in this notice and electronically submit valid applications through Grants.gov will be eligible for award. Applicants are strongly encouraged to make submissions in advance of the deadline and to verify that their submissions comply with all of the requirements in this notice.

c. Late Applications

Applicants experiencing technical issues with Grants.gov that are beyond the applicant's control must contact PIDPgrants@dot.gov prior to the application deadline with the user name of the registrant and details of the technical issue experienced. The applicant must provide:

(1) Details of the technical issue(s) experienced;

(2) Screen capture(s) of the technical issues(s) experienced along with corresponding Grants.gov “Grant tracking number”;

(3) The “Legal Business Name” for the applicant that was provided in the SF-424;

(4) The AOR name submitted in the SF-424;

(5) The DUNS number associated with the application; and

(6) The Grants.gov Help Desk Tracking Number.

To ensure a fair competition for limited discretionary funds, the following conditions are not valid reasons to permit late submissions: (1) Failure to complete the various registration processes before the deadline; (2) failure to follow Grants.gov instructions on how to register and apply as posted on its website; (3) failure to follow all instructions in this notice of funding opportunity; and (4) technical issues experienced with the applicant's computer or information technology environment. After DOT reviews all information submitted and contacts the Grants.gov Help Desk to validate reported technical issues, DOT staff will contact late applicants to approve or deny a request to submit a late application through Grants.gov. If the reported technical issues cannot be validated, late applications will be rejected as untimely.

E. Application Review Information

1. Criteria

a. Merit Criteria. This section specifies the merit criteria that DOT will use to evaluate and award applications for FY 2021 PIDP grants. Per the FY21 Appropriations Act, DOT will evaluate whether the project improves the safe, efficient, and reliable movement of goods. Per 46 U.S.C. 50302, the Secretary shall also give substantial weight to the utilization of non-Federal contributions (leverage) and economic vitality, considering the net benefits from the cost-benefit analysis of the project, as applicable. The DOT also seeks projects that address climate change and environmental justice, and advance racial equity and reduce barriers to opportunity. DOT encourages applicants to address each of the following criteria in their narrative.

i. Effect on the Movement of Goods

DOT will evaluate the extent to which the project will improve the safety, efficiency, or reliability of the movement of goods through a port or intermodal connection to a port. To address this criterion, the application must include a discussion about how the project improves the safety, efficiency, or reliability of the movement of goods. In addition, for small projects at small ports, the application must include information about the degree to which a project would promote the enhancement and efficiencies of a port.

ii. Economic Vitality

A. Large Projects. DOT will consider the costs and benefits of large projects (as defined in Section C.3.e.) seeking PIDP funding. To the extent possible, DOT will rely on quantitative, data-supported analysis to assess how well a project addresses this criterion, including an assessment of the project's estimated benefit-cost ratio and net benefits based on the applicant-supplied BCA described in Section D.2.IV.b.

Based on DOT's assessment, DOT will group projects into ranges based on their estimated benefit costs ratio (BCR) and assign a level of confidence associated with each project's assigned BCR rating. DOT will use these ranges for BCR: Less than 1; 1-1.5; 1.5-3; and greater than 3. The confidence levels are high, medium, and low.

B. Small Projects at Small Ports (i.e., applications for funding under 46 U.S.C. 50302(d)). DOT will consider the impact of the proposed small project at a small port on the economic advantage and the contribution to freight transportation at a port. DOT will also consider the competitive disadvantage of the port seeking the funding. In making this assessment, DOT will consider all relevant information provided by the applicant.

Based on DOT's assessment, DOT will group projects according to their impacts. A “high” impact project is one for which documentation submitted by the applicant indicates will improve the economic advantage of the port, contribute to freight transportation at the port, and improve the competitive advantage of the port seeking funding. A “medium” impact project is one for which documentation submitted by the applicant indicates will improve two of the factors identified above. A “low” impact project is one for which documentation submitted by the applicant indicates will improve one or none of the factors identified above.

iii. Climate Change and Environmental Justice

DOT encourages applicants to (1) consider climate change and environmental justice in project planning efforts and (2) to incorporate project elements dedicated to mitigating or reducing the impacts of climate change. The project will be assigned a Climate Change and Environmental Justice rating based on how it addresses these areas. Applications that incorporate climate change or environmental justice in both planning activities and specific project elements will receive a high rating. Applications that incorporate climate change or environmental justice in planning activities or project elements, but not both, will receive a medium rating. Applications that address this criterion in neither planning activities nor project elements will receive a low rating.

Applicants intending to address the planning portion of the Climate Change and Environmental Justice criterion should describe in detail, provide supporting documentation, or otherwise demonstrate how they meet at least one of the following options: a local/regional/state Climate Action Plan which results in lower greenhouse gas emissions has been prepared and the project directly supports that plan; a local/regional/state Equitable Development Plan has been prepared and the project directly supports that plan; the project sponsor has used environmental justice tools such as the EJSCREEN (https://ejscreen.epa.gov/mapper/) to minimize impacts to environmental justice communities; or, a local/regional/state Energy Baseline Study has been prepared and the project directly supports that study.

Applicants intending to address the project components portion of the climate change and environmental justice criterion should describe how they meet at least one of the following options: The project supports a multimodal shift in freight movement to reduce vehicle miles traveled; the project incorporates electrification infrastructure, zero-emission vehicle infrastructure or both (such as charging stations for electric port equipment); the project utilizes one or more demand management strategies to reduce congestion and greenhouse gas emissions; the project promotes energy efficiency (such as through a reduction in vessel dwell time or use of cold ironing technology); the project serves the renewable energy supply chain; the project improves disaster preparedness and resiliency; the project supports bringing existing idle or dilapidated infrastructure that is currently causing environmental harm into a state of good repair (such as brownfield redevelopment); the project supports or incorporates the construction of energy- and location-efficient buildings; or, the project proposes recycling of materials, use of materials known to reduce or reverse carbon emissions or both.

iv. Racial Equity and Barriers to Opportunity

DOT encourages applicants to describe credible planning activities and actions to address potential inequities and barriers to equal opportunity in the project as reflected in Executive Order 13985, Advancing Racial Equity and Support for Underserved Communities Through the Federal Government. Each application will be assigned a Racial Equity and Barriers to Opportunity rating based on how it addresses racial equity and barriers to equal opportunity in (1) planning and policies and (2) project investments. Applications that address both planning and policies and project investments will receive a high rating. Applications that address either planning and policies or project investment will receive a medium rating. Applications that do not address racial equity and barriers to opportunity in either their planning and policies or investments will receive a low rating.

An application will be determined to have met the planning and policy element of this criterion if it incorporates any of the following: A racial equity impact analysis for the project; documentation of equity-focused community outreach and public engagement in the project's planning in underserved communities; the adoption of an equity and inclusion program/plan or implementation of equity-focused policies related to project procurement, material sourcing, construction, inspection or other activities designed to ensure rapid racial equity in the overall project delivery and implementation. Note that these examples are illustrative and are not the only bases that DOT may use to determine that an application addresses this element.

An application will be determined to have met the project investments element of this criterion if the investments either proactively address racial equity and barriers to opportunity or redress prior inequities and barriers to opportunity. Those investments must be documented by previously incurred and/or future costs of the project. Examples of such investments include but are not limited to:

• Investments that improve or newly connect underserved communities to proactively address barriers to opportunity or redress past inequities and barriers to opportunity (such as: Physical-barrier-mitigating land bridges, caps, lids, linear parks, and multimodal mobility investments that are directly related to the project and either address past barriers to opportunity or that proactively create new connections and opportunities for underserved communities; or, new or improved freight access to underserved communities to increase access to goods and job opportunities for those underserved communities)

• Investments that directly partner with underserved communities to proactively address barriers to opportunity or redress past inequities and barriers to opportunity (such as: Project sponsor partnerships with land banks or land trusts for equitable and fair transfer of excess right-of-way and other properties directly related to the project; or, projects that result in hiring from local communities)

Definitions for “racial equity” and “underserved communities” are found in Executive Order 13985.

v. Leverage of Federal Funding

To maximize the impact of PIDP awards, DOT seeks to leverage PIDP funding with non-Federal contributions. To evaluate this criterion, DOT will assign a rating to each project based on the calculated non-Federal share of the project's future eligible project costs. DOT will sort project applications' non-Federal leverage percentage from high to low, and the assigned ratings will be based on quintile: Projects in the 80th percentile and above receive the highest rating; the 60th-79th percentile receive the second highest rating; 40th-59th, the third highest rating; 20th-39th, the fourth highest rating; and 0-19th, the lowest rating.

This evaluation criterion is separate from the statutory cost share requirements for PIDP grants, which are described in Section C.2. Those statutory requirements establish the minimum permissible non-Federal share; they do not define a competitive PIDP project.

The project's non-Federal leverage percentage will be calculated based on the best available information provided by the applicant. In cases in which the ultimate source of the funding is unclear, the funding will be treated as Federal for the purposes of this calculation. For the purposes of evaluating leverage, proceeds of Federal assistance under chapter 6 of Title 23, United States Code or sections 501 through 504 of the Railroad and Revitalization and Regulatory Reform Act of 1976 (Pub. L. 94-210), as amended, shall be considered to be part of the non-Federal share of project costs if the loan is repayable from non-Federal funds, unless otherwise requested by the project sponsor.

b. Project Readiness. DOT will consider significant risks to successful completion of a project, including risks associated with technical capacity, environmental review, permitting, and the applicant's overall capacity to manage project delivery. Risks do not disqualify projects from award, but competitive applications clearly and directly describe achievable risk mitigation strategies. A project with mitigated risks is more competitive than a comparable project with unaddressed risks.

c. Domestic Preference. DOT will consider whether an exception/waiver of the Buy American provisions will be necessary to complete the project. Among otherwise comparable applications, projects that depend on materials or manufactured products that do not comply with domestic preference requirements will be less competitive than projects that comply with those requirements. Among otherwise comparable applications that require exceptions or waivers, an application that presents an effective plan to maximize domestic content will be more competitive than one that does not. DOT will not award projects that likely need a waiver but present no plan to maximize domestic content.

d. Additional Considerations.

i. Community Development Zones

DOT will consider whether a project is located within a Federally designated community development zone such as a qualified opportunity zone, Empowerment Zone, Promise Zone, or Choice Neighborhood. Applicants can find additional information about each of the designated zones at the sites indicated below:

• Opportunity Zones: (https://opportunityzones.hud.gov/)

• Empowerment Zones: (https://www.hud.gov/hudprograms/empowerment_zones)

• Promise Zones: (https://www.hud.gov/program_offices/field_policy_mgt/fieldpolicymgtpz)

• Choice Neighborhoods: (https://www.hud.gov/program_offices/public_indian_housing/programs/ph/cn)

A project located in a Federally designated community development zone is more competitive than a similar project that is not located in a Federally designated community development zone. The Department will rely on applicant-supplied information to make this determination and will only consider this if the applicant expressly identifies the designation in their application.

ii. Projects Awarded Less Than $10,000,000 in PIDP Funds

For PIDP awards that are under $10,000,000, DOT will give priority consideration for ports that handled less than 10,000,000 short tons in 2017, as identified by the Army Corps of Engineers.

2. Review and Selection Process

a. Review Process

The PIDP evaluation consists of Intake, a Technical Review Phase, and a Senior Review Phase. During the Technical Review Phase, DOT staff will analyze applications and provide ratings, consistent with the descriptions in this notice.

Based on this analysis, the Senior Review Team assembles a list of Projects for Consideration for selection by the Secretary based on the criteria described in Section E. The Secretary makes final selections based on the criteria described in Section E.

b. Determinations

DOT must make the following determinations under 46 U.S.C. 50302(c)(6)(A) prior to award selection. Refer to Section D.2.VII. for what to include in the application.

i. Effect on the Movement of Goods

If the application demonstrates that the project will positively improve the movement of goods, the project will satisfy the determination listed under Section C.2.b.(1).

ii. Economic Vitality

For applications that seek funding for projects under 46 U.S.C. 50302(c) and that have a BCR greater than or equal to 1.0, the project will satisfy the determination in Section C.3.b.(2). For applications that seek funding for projects under 46 U.S.C. 50302(d), the project will not be required to satisfy the determination in Section C.3.b.(2).

iii. Authority To Carry Out the Project

If the applicant demonstrates that they have the authority to carry out the project by providing citations of authority, or other supporting documentation with their application, the project will satisfy the determination outlined in Section C.3.b.3.

iv. Unreasonable Delay

If the application narrative and project schedule demonstrate that the project is reasonably expected to begin construction no later than 18 months after the date of obligation of funds for the project, and will be fully completed within five years of obligation, the project satisfies the determination outlined in Section C.3.b.5.

v. Sufficient Matching Funds

In assessing the availability of the proposed non-Federal financial commitments, DOT will consider the degree to which financing sources are dedicated to the proposed purposes and are highly likely to be available within the proposed project schedule. If the application narrative and project budget demonstrate that the applicant has sufficient funding available to meet the matching requirements, the project will satisfy the determination outlined in Section C.3.b.4.

vi. Cannot Be Easily and Efficiently Completed Without Federal Funding

DOT will evaluate how well the project demonstrates that it cannot be easily and efficiently completed without Federal funding or financial assistance available to the project sponsor. If applications sufficiently describe the impacts on the project of Federal funding or financial assistance being unavailable for the project, and show the project cannot be easily or efficiently completed without such assistance, the project will satisfy the determination outlined in Section C.3.b.6.

c. Follow-Up With Applicants

DOT may ask any applicant to supplement data in its application but is not required to do so. Lack of supporting information provided with the application negatively affects competitiveness of the application. Throughout the review and selection process, DOT may seek additional information from an applicant related to project eligibility, whether the project can be completed with a reduced award, or data needed to complete project analysis.

3. Additional Information

Development phase grant applications will be evaluated against the same criteria as capital grant applications, and DOT will prioritize funding for projects that propose to move into the construction phase within the period of obligation. Accordingly, applications for development phase activities will be less competitive than capital grants.

Prior to grant obligation, each selected applicant will be subject to a risk assessment as required by 2 CFR 200.206. DOT must review and consider any information about the applicant that is in the designated integrity and performance system accessible through SAM (currently the Federal Awardee Performance and Integrity Information System (FAPIIS)). An applicant may review information in FAPIIS and comment on any information about itself. DOT will consider comments by the applicant, in addition to the other information in FAPIIS, in making a judgment about the applicant's integrity, business ethics, and record of performance under Federal awards when completing the review of risk posed by applicants.

F. Federal Award Administration Information

1. Federal Award Notice

Following the evaluation outlined in Section E, DOT will announce awarded projects by posting a list of selected projects at www.maritime.dot.gov/PIDPgrants. Notice of selection is not authorization to begin performance or to incur costs for the proposed project. Following that announcement, MARAD will contact the point of contact listed in the SF 424 to initiate negotiation of the grant agreement.

Recipients of an award will not receive a lump-sum cash disbursement at the time of award announcement or obligation of funds. Instead, PIDP grant funds will reimburse recipients only after a grant agreement has been executed, allowable expenses are incurred, and a valid request for reimbursement has been submitted. PIDP grant recipients must adhere to applicable requirements and follow established procedures to receive reimbursement.

2. Administrative and National Policy Requirements

DOT will determine the period of performance for each award based on the specific project that was evaluated and selected. DOT will administer each PIDP Grant pursuant to a grant agreement with the grant recipient. Amounts awarded as a grant under this notice that are not expended by the grant recipient shall remain available to DOT for use for grants under this program.

The grant agreement between a grant recipient and MARAD includes two attachments: One labelled “Exhibits” and one labelled “General Terms and Conditions.” These attachments include most of the administrative and national policy requirements applicable to PIDP grant awards. Please visit https://www.maritime.dot.gov/grants/federal-grant-assistance/federal-grant-assistance for the Exhibits and General Terms and Conditions for FY 2020 PIDP awards. The FY 2021 PIDP Exhibits and General Terms and Conditions will be similar to the FY 2020 PIDP documents, but may include updates.

Unless authorized by DOT in writing after DOT's announcement of FY 2021 PIDP awards, any costs incurred prior to DOT's obligation of funds for a project (“pre-award costs”) are ineligible for reimbursement and are ineligible to count as match for cost share requirements.¹⁰

¹⁰ Pre-award costs are costs incurred prior to the effective date of the Federal award directly pursuant to the negotiation and anticipation of the PIDP award where such costs are necessary for efficient and timely performance of the scope of work, as determined by DOT.

All awards will be administered pursuant to the Uniform Administrative Requirements, Cost Principles and Audit Requirements for Federal Awards found in 2 CFR part 200, as adopted by DOT at 2 CFR part 1201. Additionally, other applicable Federal laws, Executive Orders, and any rules, regulations, and requirements of MARAD will apply to the projects that receive PIDP Grant awards.

As expressed in Executive Order 14005, Ensuring the Future Is Made in All of America by All of America's Workers (86 FR 7475), it is the policy of the executive branch to use terms and conditions of Federal financial assistance awards to maximize the use of goods, products, and materials produced in, and services offered in, the United States. Consistent with the requirements of Section 410 of Division L—Transportation, Housing and Urban Development, and Related Agencies Appropriations Act, 2021 (Pub. L. 116-260, December 27, 2020), the Buy American requirements of 41 U.S.C. 8301-8305 apply to funds made available under this notice and other expenditures within the scope of the award, and all grant recipients must apply, comply with, and implement all provisions of the Buy American Act and related provisions in the grant agreement when implementing PIDP Grant projects. If selected for an award, grant recipients will be required to obtain approval from DOT before applying any Buy American Act exception. To obtain that approval, grant recipients must be prepared to demonstrate how they will maximize the use of domestic goods, products, and materials in constructing their project.

In connection with any program or activity conducted with or benefiting from funds awarded under this notice, recipients of funds must comply with all applicable requirements of Federal law, including, without limitation, the Constitution of the United States; statutory, regulatory, and public policy requirements, including without limitation, those protecting free speech, religious liberty, public welfare, the environment, and prohibiting discrimination; the conditions of performance, nondiscrimination requirements, and other assurances made applicable to the award of funds in accordance with regulations of DOT; and applicable Federal financial assistance and contracting principles promulgated by the Office of Management and Budget. In complying with these requirements, recipients, in particular, must ensure that no concession agreements are denied or other contracting decisions made on the basis of speech or other activities protected by the First Amendment. If DOT determines that a recipient has failed to comply with applicable Federal requirements, DOT may terminate the award of funds and disallow previously incurred costs, requiring the recipient to reimburse any expended award funds.

The Recipient shall award each contract or sub-contract for program management, construction management, planning studies, feasibility studies, architectural services, preliminary engineering, design, engineering, surveying, mapping, or related services with respect to the project in the same manner that a contract for architectural and engineering services is negotiated under the Brooks Act, 40 U.S.C. 1101-1104, or an equivalent qualifications-based requirement prescribed for or by the Recipient and approved in writing by DOT.

Additionally, Federal wage rate requirements included in subchapter IV of chapter 31 of title 40, U.S.C., apply to all projects receiving funds under this program, and apply to all parts of the project, whether funded with PIDP grant funds, other Federal funds, or non-Federal funds.

3. Reporting

This section of the notice provides general information about the reporting requirements that accompany PIDP Grant funding. Potential applicants should review these requirements to ensure that they can satisfy them if they receive an award. A recipient's failure to timely submit required reports may result in termination of an award and a legal requirement for the recipient to return funding to DOT.

a. Progress Reporting on Grant Activities

Each applicant selected for PIDP Grants funding must submit quarterly progress reports and Federal Financial Reports (SF-425) to monitor project progress and ensure accountability and financial transparency in the PIDP.

b. Outcome Performance Reporting

Each applicant selected for PIDP grant funding must collect information and report on the project's observed performance with respect to the relevant long-term outcomes that are expected to be achieved through construction of the project. Performance indicators will include formal goals or targets for a period determined by DOT. They will be used to evaluate and compare projects and monitor the results that grant funds achieve to the intended long-term outcomes of the PIDP. To the extent possible, performance indicators used in the reporting will relate to at least one of the merit criteria defined in Section E and to a benefit estimated in the BCA. DOT expects that the level of performance will be consistent with estimates used in the applicant's BCA. Performance reporting continues for three years after project construction is completed, and DOT does not provide PIDP grant funding specifically for performance reporting. For each project selected for award, DOT, with input from the grant recipients, will identify the measures to be collected. Those measures and the reporting requirements will be formalized in the agreement obligating award funds for the project.

c. Port Performance Reporting

DOT is required to report annually on port performance (see Sec. 6314 of the FAST Act). To help DOT more accurately assess port performance, PIDP grant recipients will be required to enter a data sharing agreement to submit to DOT information where consistent data related to the project, particularly on cargo throughput, is not publicly available and difficult to collect from ports and port terminals. Data, which must originate from the port, that will be required as a condition of award may include some or all the following:

• Total capacity of inbound and outbound cargo

• Total volume of inbound and outbound cargo

• Average number of lifts per hour of containers by crane

• Average vessel turn time by vessel type

• Average cargo or container dwell time

• Port storage capacity and utilization

• Modal throughput statistics, including rail and truck turn times

• Types of cargo moved

• Presences and location of intermodal connectors

• Physical size of the terminals within the port boundaries

• Maximum authorized channel depth and maximum actual/current channel depth

• Schedule vessel arrivals (for use in determining vessel on-time performance)

• Berth utilization

Details and definitions on the data elements described above will be provided in the data sharing agreement with DOT.

d. Reporting of Matters Related to Recipient Integrity and Performance

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice please contact the PIDP staff via email at PIDPgrants@dot.gov, or call Peter Simons, Supervisory Transportation Specialist, Office of Port Infrastructure Development, at 202-366-8921. A TDD is available for individuals who are deaf or hard of hearing at 202-366-3993. In addition, DOT will post answers to questions and requests for clarifications at www.maritime.dot.gov/PIDPgrants. To ensure applicants receive accurate information about eligibility or the program, the applicant is encouraged to contact DOT directly, rather than through intermediaries or third parties, with questions. DOT may also conduct briefings on the PIDP Grants selection and award process upon request.

H. Other Information

1. Protection of Confidential Business Information

All information submitted as part of or in support of any application shall use publicly available data or data that can be made public and methodologies that are accepted by industry practice and standards, to the extent possible. If the applicant submits information that the applicant considers to be a trade secret or confidential commercial or financial information, the applicant must provide that information in a separate document, which the applicant may cross-reference from the application narrative or other portions of the application. For the separate document containing confidential information, the applicant must do the following: (1) State on the cover of that document that it “Contains Confidential Business Information (CBI)”; (2) mark each page that contains confidential information with “CBI”; (3) highlight or otherwise denote the confidential content on each page; and (4) at the end of the document, explain how disclosure of the confidential information would cause substantial competitive harm. DOT will protect confidential information complying with these requirements to the extent required under applicable law. If DOT receives a Freedom of Information Act (FOIA) request for the information that the applicant has marked in accordance with this section, DOT will follow the procedures described in its FOIA regulations at 49 CFR 7.29. Only information that is in the separate document, marked in accordance with this section, and ultimately determined to be confidential under 7.29 will be exempt from disclosure under FOIA.

2. Publication/Sharing of Application Information

Following the completion of the selection process and announcement of awards, DOT intends to publish a list of all applications received along with the names of the applicant organizations and funding amounts requested. Except for the information properly marked as described in Section H.1., DOT may make application narratives publicly available or share application information within DOT or with other Federal agencies if DOT determines that sharing is relevant to the respective program's objectives.

(Authority: 46 U.S.C. 50302, Pub. L. 116-260 (December 27, 2020), 49 CFR 1.93(a))

By Order of the Acting Maritime Administrator.
T. Mitchell Hudson, Jr.,
Secretary, Maritime Administration.

[FR Doc. 2021-07852 Filed 4-15-21; 8:45 am]

BILLING CODE 4910-81-P